DEPARTMENT OF TRANSPORTATION

Surface Transportation Board

[Docket No. FD 35414]

Gulf & Ohio Railways, Inc., H. Peter Claussen and Linda C. Claussen—Continuance in Control Exemption—Lancaster & Chester Railroad, LLC

AGENCY: Surface Transportation Board, DOT.

ACTION: Correction to notice of exemption.

On October 15, 2010, notice of the above exemption was served and published in the Federal Register (75 FR 63,533). The exemption became effective on October 31, 2010. On February 16, 2011, a correction was filed with the Board advising that the parent company, which was inadvertently referred to in the continuance in control filing as “Gulf & Ohio Railways Holding Co., Inc.” should have been referred to as “Gulf & Ohio Railways, Inc.” This notice corrects the name of the parent company. All other information in the notice is correct.

Board decisions and notices are available on our Web site at http://www.stb.dot.gov.

Decided: March 4, 2011.
By the Board, Rachel D. Campbell, Director, Office of Proceedings.
Jeffrey Herzig,
Clearance Clerk.

[FR Doc. 2011-5339 Filed 3-9-11; 8:45 am]

BILLING CODE 4915-01-P